DEPARTMENT OF ENERGY

Federal Energy Regulatory Commission

[Docket No. RP00-404-017]

Northern Natural Gas Company; Errata Notice

July 19, 2005.

On July 14, 2005, the Commission issued a “Notice of Filing of a Report on Field Area Segmentation”. The third paragraph of the notice is revised to include a specific date for the filing of protests should read as follows:

Any person desiring to protest this filing must file in accordance with Rule 211 of the Commission's Rules of Practice and Procedure (18 CFR 385.211). Protests to this filing will be considered by the Commission in determining the appropriate action to be taken, but will not serve to make protestants parties to the proceeding. Such protests must be filed on or before August 1, 2005. Anyone filing a protest must serve a copy of that document on all the parties to the proceeding.

Magalie R. Salas,
Secretary.

[FR Doc. E5-3952 Filed 7-25-05; 8:45 am]

BILLING CODE 6717-01-P